DEPARTMENT OF LABOR

Office of the Secretary

Dominican Republic—Central America—United States Free Trade Agreement; Notice of Extension of the Period of Review for Submission #2012-01 (Honduras)

AGENCY: Office of Trade and Labor Affairs, Bureau of International Labor Affairs, U.S. Department of Labor.

ACTION: Notice.

The Office of Trade and Labor Affairs (OTLA) in the Bureau of International Labor Affairs (ILAB) of the U.S. Department of Labor (DOL) has determined that an extension of time is required for its review of Submission #2012-01 concerning Honduras (the Submission) filed under Chapter Sixteen (the Labor Chapter) of the Dominican Republic—Central America—United States Free Trade Agreement (CAFTA-DR).

On March 26, 2012, OTLA received the Submission from the American Federation of Labor and Congress of Industrial Organizations (AFL-CIO) and 26 Honduran Federations, Trade Unions and Civil Society Organizations. It alleges action or inaction by the Government of Honduras that, if substantiated, could be inconsistent with Honduras' commitments under the Labor Chapter.

OTLA accepted the Submission for review on May 14, 2012 (77 FR 30329 (2012)), in accordance with its published Procedural Guidelines (71 FR 76694 (2006)).

Acceptance triggers a 180-day fact-finding and review period that results in the issuance of a public report of any findings and recommendations. The objective of fact-finding and review is to gather information so that OTLA can better understand the case and publicly report on the U.S. Government's views regarding whether the Government of Honduras' action or inaction was consistent with the obligations set forth in the Labor Chapter. The public report will include a summary of the review process, as well as any findings and recommendations.

As part of its ongoing review, OTLA sent a delegation to Honduras from July 9-21, 2012, to gather information on issues raised by the Submission. The OTLA delegation met with representatives from the Government of Honduras, employers, workers, and other groups with information relevant to the Submission.

According to the Procedural Guidelines, if OTLA determines circumstances require an extension of time, it can delay the report's publication (Procedural Guidelines, Sec. H.7). OTLA has determined that an extension of time is required to complete its review due to:

• The scope of the submission, which covers seventeen distinct fact patterns in three different economic sectors and in three different regions of Honduras;

• The scope of the labor law violations alleged, which cover freedom of association, the right to organize, the right to bargain collectively, child labor, and acceptable conditions of work, as well as threats and violence against trade unionists; and

• The large amounts of information received from the government and stakeholders.

The extension will also permit OTLA to incorporate into its report, as relevant, more recent information related to the issues in the submission. OTLA will continue to give this matter the highest priority in order to complete the review as expeditiously as possible.

DATES: Effective Date: November 2, 2012.

FOR FURTHER INFORMATION CONTACT: Gregory Schoepfle, Director, OTLA, U.S. Department of Labor, 200 Constitution Avenue NW., Room S-5303, Washington, DC 20210. Telephone: (202) 693-4900 (this is not a toll-free number).

Signed at Washington, DC, on November 2, 2012.
Carol Pier,
Acting Deputy Undersecretary, International Affairs.

[FR Doc. 2012-27255 Filed 11-6-12; 8:45 am]

BILLING CODE 4510-28-P